DEPARTMENT OF TRANSPORTATION

Federal Aviation Administration

Public Notice for Waiver of Aeronautical Land-Use Assurance

AGENCY: Federal Aviation Administration (FAA), DOT.

ACTION: Notice of intent of waiver with respect to land; Freeman Municipal Airport, Seymour, Indiana.

SUMMARY: The FAA is considering a proposal to change 3.1 acres of airport land from aeronautical use to non-aeronautical use and to authorize the sale of airport property located at Freeman Municipal Airport, Seymour, Indiana. The aforementioned land is not needed for aeronautical use.

The property is located at 740 East C Avenue, on the corner of 4th Avenue. The property is surplus airport property, following its military air base use during World War II, and is no longer needed for aeronautical purposes. It is currently, and has long been, leased for use as light industrial business. Upon release, the land will be sold for continued use for light industrial purposes.

DATES: Comments must be received on or before June 23, 2014.

ADDRESSES: Documents are available for review by appointment at the FAA Chicago Airports District Office, Michael Ferry, Program Manager, 2300 East Devon Avenue, Des Plaines, IL, 60018, Telephone: (847) 294-8251 Michael.Ferry@faa.gov; or at the Seymour Municipal Airport Authority, Don Furlow, 1025 A Avenue, Seymour, IN, 47274, 812-522-2031.

Written comments on the Sponsor's request must be delivered or mailed to: Michael Ferry, Program Manager, Federal Aviation Administration, Chicago Airports District Office, 2300 East Devon Avenue, Des Plaines, IL, 60018, Telephone Number: (847) 294-8251/FAX Number: (847) 294-7046.

FOR FURTHER INFORMATION CONTACT: Michael Ferry, Program Manager, Federal Aviation Administration, Chicago Airports District Office, 2300 East Devon Avenue, Des Plaines, IL, 60018. Telephone Number: (847) 294-8251/Michael.Ferry@faa.gov/FAX Number: (847) 294-7046.

SUPPLEMENTARY INFORMATION: In accordance with section 47107(h) of Title 49, United States Code, this notice is required to be published in the Federal Register 30 days before modifying the land-use assurance that requires the property to be used for an aeronautical purpose.

The property has long been surplus airport property, following its use as a military air base during World War II, and is currently being used for light industrial business. The land was acquired as airport property from the United States government in 1948 through the Surplus Property Act. The airport plans to sell the property at fair market value upon release. The income from the sale will be reinvested in the airport.

The disposition of proceeds from the sale of the airport property will be in accordance with FAA's Policy and Procedures Concerning the Use of Airport Revenue, published in the Federal Register on February 16, 1999 (64 FR 7696).

This notice announces that the FAA is considering the release of the subject airport property at the Freeman Municipal Airport, Seymour, Indiana, from federal land covenants, subject to a reservation for continuing right of flight as well as restrictions on the released property as required in FAA Order 5190.6B section 22.16. Approval does not constitute a commitment by the FAA to financially assist in the disposal of the subject airport property nor a determination of eligibility for grant-in-aid funding from the FAA.

Legal Description

LOT 41A OF “SEYMOUR MUNICIPAL AIRPORT AUTHORITY—MINOR SUBDIVISION” AS RECORDED IN PLAT CABINET 7, PAGE 1948 IN THE OFFICE OF THE JACKSON COUNTY RECORDER AND DESCRIBED AS FOLLOWS:

BEGINNING AT A 1” STEEL PIPE (FOUND) MARKING THE WEST CORNER OF LOT 41A; THENCE NORTH 44°13′57″ EAST (ASSUMED BEARING) ALONG THE NORTHWEST LINE OF SAID LOT A DISTANCE OF 351.16 FEET TO THE NORTH CORNER OF SAID LOT AND A 1” STEEL PIPE (FOUND); THENCE SOUTH 45°48′15″ EAST ALONG THE NORTHEAST LINE OF SAID LOT A DISTANCE OF 384.04 FEET TO THE EAST CORNER OF SAID LOT AND A 5/8” REBAR AND CAP (FOUND); THENCE SOUTH 44°11′45″ WEST ALONG THE SOUTHEAST LINE OF SAID LOT A DISTANCE OF 351.29 FEET TO THE SOUTH CORNER OF SAID LOT AND A 5/8” REBAR AND CAP (FOUND); THENCE NORTH 45°47′01″ WEST ALONG THE SOUTHWEST LINE OF SAID LOT A DISTANCE OF 384.26 FEET TO THE POINT OF BEGINNING, CONTAINING 3.10 ACRES, MORE OR LESS, AND SUBJECT TO ALL LEGAL RIGHTS OF WAY AND EASEMENTS.

Issued in Des Plaines, Illinois, on May 12, 2014.
Jim Keefer,
Manager, Chicago Airports District Office, FAA, Great Lakes Region.

[FR Doc. 2014-11857 Filed 5-21-14; 8:45 am]

BILLING CODE 4910-13-P